DEPARTMENT OF AGRICULTURE

Agricultural Marketing Service

[Doc. No. AMS-LPS-16-0032]

Request for Revision to and Extension of a Currently Approved Information Collection

AGENCY: Agricultural Marketing Service, USDA.

ACTION: Notice and request for comments.

SUMMARY: In accordance with the Paperwork Reduction Act of 1995 (44 U.S.C. Chapter 35), this notice announces the Agricultural Marketing Service's (AMS) intention to request approval from the Office of Management and Budget (OMB) for an extension of and revision to the currently approved information collection “Livestock, Poultry, Meat, and Grain Market News Reports” (0186-0033), which AMS is proposing to retitle as the “Livestock, Poultry, and Grain Market News.”

DATES: Comments received by July 12, 2016.

Additional Information or Comments: Interested persons are invited to submit comments concerning this information collection document. Comments should be submitted online at www.regulations.gov or sent to Anjeanette Johnson, Market News Reporter; Livestock, Poultry, and Grain Market News Division; Livestock, Poultry, and Seed Program; Agricultural Marketing Service, U.S. Department of Agriculture, 1400 Independence Ave. SW., Room 2619-S, STOP 0252; Washington, DC 20250-0252; telephone (202) 692-0086; fax (202) 690-3732; or email Anjeanette.Johnson@ams.usda.gov. All comments should reference the docket number (AMS-LPS-16-0032), date, and page number of this issue in the Federal Register. All comments received will be posted without change, including any personal information provided, online at www.regulations.gov and will be made available for public inspection at the above physical address during regular business hours.

SUPPLEMENTARY INFORMATION:

Title: Livestock, Poultry, and Grain Market News.

OMB Number: 0581-0033.

Expiration Date of Approval: September 30, 2016.

Type of Request: Revision to and extension of a currently approved information collection.

Abstract: The Agricultural Marketing Act of 1946, as amended, 7 U.S.C. 1621-1627, authorizes the Secretary of Agriculture to provide up-to-the-minute nationwide coverage of prices, supply, demands, trends, movement, and other pertinent information affecting the trading of livestock, poultry, meat, eggs, grain, and their related products, as well as locally produced and marketed products. The market reports compiled and disseminated by the Livestock, Poultry, and Grain Market News (LPGMN) Division of AMS' Livestock, Poultry, and Seed Program provide current, unbiased, and factual information to all stakeholders in the U.S. agricultural industry. LPGMN reports assist producers, processors, wholesalers, retailers, and others to make informed production, purchasing, and sales decisions. LPGMN reports also promote orderly marketing by placing buyers and sellers on a more equal negotiation basis.

LPGMN reporters communicate with buyers and sellers of livestock, poultry, meat, eggs, grain, local products, and their respective commodities on a daily basis to accomplish LPGMN's mission. This communication and information gathering is accomplished through the use of telephone conversations, facsimile transmissions, face-to-face meetings, and email messages. The information provided by respondents initiates LPGMN reporting, which must be timely, accurate, unbiased, and continuous if it is to be meaningful to the industry. AMS collects information on price, supply, demand, trends, movement, and other information of livestock, poultry, meat, grain, eggs, local products, and their respective commodities. LPGMN uses one OMB approved form, PY-90: “Monthly Dried Egg Solids Stocks Report,” to collect inventory information from commercially dried egg product plants throughout the U.S. Cooperating firms voluntarily submit this form to LPGMN primarily via email and facsimile transmissions.

This collection was previously titled “Livestock, Poultry, Meat, and Grain Market News Reports” (0186-0033), and AMS is proposing to retitle the collection as “Livestock, Poultry, and Grain Market News” collection.

Estimate of Burden: Public reporting burden for this collection of information is estimated to average 0.0600 hours per response.

Respondents: Business or other for-profit and farms.

Estimated Number of Respondents: 2,990.

Estimated Number of Responses per Respondent: 93.

Estimated Total Annual Responses: 279,119.

Estimated Total Annual Burden on Respondents: 16,110.

Comments are invited on: (1) Whether the proposed collection of information is necessary for the proper performance of the functions of the agency, including whether the information will have practical utility; (2) the accuracy of the agency's estimate of the burden of the proposed collection of information including the validity of the methodology and assumptions used; (3) ways to enhance the quality, utility, and clarity of the information to be collected; and (4) ways to minimize the burden of the collection of information on those who are to respond, including the use of appropriate automated, electronic, mechanical, or other technological collection techniques or other forms of information technology.

All responses to this notice will be summarized and included in the request for OMB approval. All comments will become a matter of public record.

Dated: May 10, 2016.
Elanor Starmer,
Administrator, Agricultural Marketing Service.

[FR Doc. 2016-11318 Filed 5-12-16; 8:45 am]

BILLING CODE 3410-02-P